DEPARTMENT OF COMMERCE

International Trade Administration

[A-588-826]

Canned Pineapple Fruit From Thailand; Preliminary Results of Sunset Review of Antidumping Duty Order

AGENCY: Import Administration, International Trade Administration, Department of Commerce.

ACTION: Notice of preliminary results of full sunset review: Canned pineapple fruit from Thailand.

SUMMARY: On June 5, 2000, the Department of Commerce (“the Department”) initiated a sunset review of the antidumping duty order on canned pineapple fruit (“CPF”) from Thailand (65 FR 35604) pursuant to section 751(c) of the Tariff Act of 1930, as amended (“the Act”). On the basis of a notice of intent to participate filed on behalf of domestic and respondent interested parties, the Department determined to conduct a full review. As a result of this review, the Department preliminarily finds that revocation of the antidumping duty order would likely lead to continuation or recurrence of dumping at the levels indicated in the Preliminary Results of Review section of this notice.

EFFECTIVE DATE: September 29, 2000.

FOR FURTHER INFORMATION CONTACT: Kathryn B. McCormick or James Maeder, Office of Policy for Import Administration, International Trade Administration, U.S. Department of Commerce, 14th Street and Constitution Avenue, NW, Washington, DC 20230; telephone: (202) 482-1930 or (202) 482-3330, respectively.

SUPPLEMENTARY INFORMATION:

Statute and Regulations

This review is being conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and in 19 CFR part 351 (2000) in general. Guidance on methodological or analytical issues relevant to the Department's conduct of sunset reviews is set forth in the Department's Policy Bulletin 98.3—Policies Regarding the Conduct of Five-year (“Sunset”) Reviews of Antidumping and Countervailing Duty Orders; Policy Bulletin, 63 FR 18871 (April 16, 1998) (“Sunset Policy Bulletin”).

Background

On June 5, 2000, the Department initiated a sunset review of the antidumping duty order on CPF from Thailand (65 FR 35604), pursuant to section 751(c) of the Act. The Department received a notice of intent to participate on behalf of Maui Pineapple Co., Ltd. (“Maui”) and the International Longshoremen's and Warehousemen's Union (the “Union”) (collectively, “domestic interested parties”), within the applicable deadline (June 16, 1999) specified in section 351.218(d)(1)(i) of the Sunset Regulations. Domestic interested parties claimed interested-party status under section 771(9)(C) of the Act, as U.S. producers of a domestic like product.

On July 5, 2000, we received substantive responses on behalf of domestic interested parties and Dole. Dole is an interested party pursuant to section 771(9)(A) of the Act as a foreign producer and exporter of subject merchandise. Domestic interested parties claim that they have participated in every segment of this proceeding, including the original investigation and the four administrative reviews initiated to date, pursuant to section 751(a) of the Act (see July 5, 2000, Substantive Response of domestic interested parties at 3).

On July 10, 2000, we received rebuttal comments on behalf of domestic interested parties in response to Dole's substantive response. On July 14 and July 27, 2000, we accepted additional comments.

Scope of Review

The product covered by this review is CPF from Thailand. CPF is defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (“HTSUS”). HTSUS 2008.20.0010 covers CPF packed in a sugar-based syrup; HTSUS 2008.20.0090 covers CPF packed without added sugar (i.e., juice-packed). Although these HTSUS subheadings are provided for convenience and for customs purposes, our written description of the scope is dispositive.

Analysis of Comments Received

All issues raised in the case and rebuttal briefs by parties to this sunset review are addressed in the “Issues and Decision Memorandum” (“Decision Memo”) from Jeffrey A. May, Director, Office of Policy, Import Administration, to Troy H. Cribb, Acting Assistant Secretary for Import Administration, dated September 23, 2000, which is hereby adopted by this notice. The issues discussed in the attached Decision Memo include the likelihood of continuation or recurrence of dumping and the magnitude of the margin likely to prevail were the order revoked. Parties can find a complete discussion of all issues raised in this review and the corresponding recommendations in this public memorandum which is on file in the Central Records Unit, room B-099, of the main Commerce building.

In addition, a complete version of the Decision Memo can be accessed directly on the Web at http://ia.ita.doc.gov/import_admin/records/frn, under the heading “Thailand.” The paper copy and electronic version of the Decision Memo are identical in content.

Preliminary Results of Review

We determine that revocation of the antidumping duty order on CPF from Thailand would be likely to lead to continuation or recurrence of dumping at the following percentage weighted-average margins:

Manufacturer/exporters | Margin (percent)
Dole | 1.73
TIPCO | 38.68
SAICO | 51.16
Malee | 41.74
All Others | 24.64

Any interested party may request a hearing within 30 days of publication of this notice in accordance with 19 CFR 351.310(c). Any hearing, if requested, will be held on November 15, 2000, in accordance with 19 CFR 351.310(d). Interested parties may submit case briefs no later than November 8, 2000, in accordance with 19 CFR 351.309(c)(1)(i). Rebuttal briefs, which must be limited to issues raised in the case briefs, may be filed not later than November 13, 2000. The Department will issue a notice of final results of this sunset review, which will include the results of its analysis of issues raised in any such briefs, no later than January 27, 2001.

This five-year (“sunset”) review and notice are in accordance with sections 751(c), 752, and 777(i)(1) of the Act.

Dated: September 25, 2000.
Troy H. Cribb,
Acting Assistant Secretary for Import Administration.

[FR Doc. 00-25082 Filed 9-28-00; 8:45 am]

BILLING CODE 3510-DS-P